DEPARTMENT OF COMMERCE

National Oceanic and Atmospheric Administration

RIN 0648-XE614

Endangered Species; File No. 20114

AGENCY: National Marine Fisheries Service (NMFS), National Oceanic and Atmospheric Administration (NOAA), Commerce.

ACTION: Notice; receipt of application.

SUMMARY: Notice is hereby given that Commonwealth of Northern Mariana Islands Department of Lands & Natural Resources, Sea Turtle Program, Caller Box 10007 Saipan, MP 96950 Northern Mariana Islands [Responsible Party: Richard B. Seman,], has applied in due form for a permit to take green (Chelonia mydas) and hawksbill (Eretmochelys imbricata) sea turtles for purposes of scientific research.

DATES: Written, telefaxed, or email comments must be received on or before July 11, 2016.

ADDRESSES: The application and related documents are available for review by selecting “Records Open for Public Comment” from the “Features” box on the Applications and Permits for Protected Species (APPS) home page, https://apps.nmfs.noaa.gov, and then selecting File No. 20114 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Arturo Herrera or Amy Hapeman (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to research green and hawksbill sea turtles within the U.S. CNMI. The purpose of the project is to characterize the population structure, size class composition, foraging ecology, health, and migration patterns of green and hawksbill turtles in the region. Researchers would be authorized to capture 265 green and 40 hawksbill sea turtles annually by hand-capture and perform the following procedures: Examine; measure; photograph; video; weigh; flipper and Passive Integrated Transponder (PIT) tag; temporary carapace mark; oral swab, tissue, and blood sample. 235 green and 20 hawksbill sea turtles will receive scute sampling, while 30 captured hawksbills and 20 greens will have satellite transmitters attached by epoxy. In addition, dead carcasses, tissues and parts may be salvaged from up to 15 greens and 10 hawksbills annually.

Dated: June 6, 2016.
Julia Harrison,
Chief, Permits and Conservation Division, Office of Protected Resources, National Marine Fisheries Service.

[FR Doc. 2016-13713 Filed 6-9-16; 8:45 am]

BILLING CODE 3510-22-P